DEPARTMENT OF COMMERCE

Bureau of Economic Analysis

Proposal To Collect Information on Transactions of U.S. Affiliates With Their Foreign Parents; Proposed Collection

ACTION: Proposed collection; comment request.

SUMMARY: The Department of Commerce, as part of its continuing effort to reduce paperwork and respondent burden, invites the general public and other Federal agencies to comment on proposed and/or continuing information collections, as required by the Paperwork Reduction Act of 1995, Pub. L. 104-13 (44 U.S.C. 3506(c)(2)(A)).

DATES: Written comments must be submitted on or before October 3, 2000.

ADDRESSES: Direct all written comments to Linda Engelmeier, Departmental Forms Clearance Officer, Department of Commerce, Room 6086, 14th and Constitution Avenue, NW, Washington, DC 20230.

FOR FURTHER INFORMATION CONTACT: Requests for additional information or copies of the information collection instruments and instructions should be directed to: R. David Belli, U.S. Department of Commerce, Bureau of Economic Analysis, BE-50(OC), Washington, DC 20230 (Telephone: 202-606-9800).

SUPPLEMENTARY INFORMATION:

I. Abstract

The Transactions of U.S. Affiliate, Except a U.S. Banking Affiliate, with Foreign Parent (Form BE-605) and Transactions of U.S. Banking Affiliate with Foreign Parent (Form BE-605 Bank), obtain quarterly cut-off sample data on transactions and positions between foreign-owned U.S. business enterprises and their “affiliated foreign group” (i.e., their foreign parents and foreign affiliates of their foreign parents). The data are needed for compiling the international transactions accounts, input-output accounts, and national income and product accounts of the United States. The data are also needed to measure the amount of foreign direct investment in the United States, monitor changes in such investment, assess its impact on the U.S. and foreign economies, and, based upon this assessment, make informed policy decisions regarding foreign direct investment in the United States.

BEA is proposing the following three changes to the forms and instructions:

1. Revise and clarify the instructions for reporting of net income and capital gains by banks, dealers in financial instruments, and companies in finance, insurance, or real estate.

2. Modify the detail on services transactions on Form BE-605 by adding two categories—management and consulting and research and development—and dropping one—communications services. These changes will improve the usefulness of the detail on services by type without materially affecting the average burden imposed on respondents. Services by type are not collected on Form BE-605 Bank.

3. Eliminate a special instruction requiring that accruals under the terms of interest rate and foreign currency swap agreements be reported as “interest” on a net basis. This change will bring reporting into conformity with new international guidelines, which require such transactions to be treated as financial flows rather than interest.

II. Method of Collection

Forms BE-605 and BE-605 Bank are quarterly reports that must be filed within 30 days after the end of each quarter (45 days after the final quarter of the respondent's fiscal year) by every U.S. business enterprise that is owned 10 percent or more by a foreign investor and that has total assets, sales, or net income (or loss) of over $30 million. Potential respondents are those U.S. business enterprises that reported in the last benchmark survey of foreign direct investment in the United States, along with those U.S. business enterprises that subsequently entered the direct investment universe. The data collected are cut-off sample data covering transactions and positions between foreign-owned U.S. business enterprises and their affiliated foreign groups. Universe estimates are developed from the reported sample data.

III. Data

OMB Number: 0608-0009.

Form Number: BE-605/BE-605 Bank.

Type of Review: Regular submission.

Affected Public: Businesses or other for-profit.

Estimated Number of Respondents: 3,950 per quarter; 15,800 annually.

Estimated Time Per Response: 1¼ hours.

Estimated Total Annual Burden: 19,750 hours.

Estimated Total Annual Cost: $592,500 (based on an estimated reporting burden of 19,750 hours and an estimated hourly cost of $30).

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2000.
Madeleine Clayton,
Management Analyst, Office of the Chief Information Officer.

[FR Doc. 00-19720 Filed 8-3-00; 8:45 am]

BILLING CODE 3510-06-P